DEPARTMENT OF AGRICULTURE

Forest Service

Roadless Area Conservation; National Forest System Lands in Colorado

AGENCY: Forest Service, USDA.

ACTION: Notice of intent to prepare a supplemental environmental impact statement.

SUMMARY: The U.S. Department of Agriculture is initiating a supplemental environmental impact statement (SEIS) to propose reinstatement of the North Fork Coal Mining Area exception of the Colorado Roadless Rule. The exception would allow for temporary road construction for coal exploration and/or coal-related surface activities in a 19,100-acre area defined as the North Fork Coal Mining Area. The Forest Service will use the SEIS to address specific deficiencies identified by the District Court of Colorado in High Country Conservation Advocates v. United States Forest Service (D. Colo. June 27, 2014).

DATES: Comments must be received in writing by May 22, 2015.

ADDRESSES: Comments may be submitted electronically at https://cara.ecosystem-management.org/Public/CommentInput?Project=46470. In addition written comments can be submitted via hard-copy mail to: Colorado Roadless Rule, 740 Simms Street, Golden, CO 80401.

All comments, including names and addresses, are placed in the record and are available for public inspection and copying.

FOR FURTHER INFORMATION CONTACT: Ken Tu at 303-275-5156. Individuals using telecommunication devices for the deaf (TDD) may call the Federal Information Relay Services at 1-800-877-8339 between 8 a.m. and 8 p.m. Eastern Time, Monday through Friday.

SUPPLEMENTARY INFORMATION: On July 3, 2012 (77 FR 39576), the U.S. Department of Agriculture promulgated the Colorado Roadless Rule, a state-specific regulation for management of Colorado Roadless Areas. This Rule addressed State-specific concerns while conserving roadless area characteristics. One State-specific concern was to avoid foreclosing exploration and development of coal resources on the Grand Mesa, Uncompahgre, and Gunnison (GMUG) National Forests. The Colorado Roadless Rule addressed this by defining a 19,100-acre area as the North Fork Coal Mining Area, and developing an exception that allows temporary road construction for coal-related activities within that defined area.

In July 2013, High Country Conservation Advocates, WildEarth Guardians, and Sierra Club challenged the Forest Service's decision to consent to the Bureau of Land Management (BLM) modifying two existing coal leases, the BLM's companion decision to modify the leases, BLM's authorization of an exploration plan in the lease modification areas, and the North Fork Coal Mining Area exception of the Colorado Roadless Rule. In June 2014, the District Court of Colorado found the environmental documents supporting the four decisions to be in violation of the National Environmental Policy Act (NEPA) due to analysis deficiencies. In September 2014, the District Court of Colorado vacated the lease modifications, the exploration plan, and the North Fork Coal Mining Area exception of the Colorado Roadless Rule (36 CFR 294.43(c)(1)(ix)).

This supplemental NEPA process will only address the Colorado Roadless Rule. The lease modifications and exploration plan authorization will be addressed in future environmental analyses, if needed.

Purpose and Need

The purpose and need for this supplemental EIS is to provide management direction for conserving roadless characteristics within the area while addressing the State interest in not foreclosing exploration and development of the coal resources in the North Fork Coal Mining Area.

Proposed Action

The proposed action for the Colorado Roadless Rule supplemental is to reinstate the North Fork Coal Mining Area exception as written in 36 CFR 294.43(c)(1)(ix). In addition, the Forest Service is proposing to administratively correct the North Fork Coal Mining Area boundary to remedy clerical errors.

Alternative to the Proposed Action

The other alternative being considered is the no-action alternative, which is the continuation of current management following the District Court ruling to vacate the North Fork Coal Mining Area exception. The Colorado Roadless Rule contains a severability clause (36 CFR 294.48(f)), which allows the rest of the Rule to remain in effect. Therefore, the District Court of Colorado's ruling only changed management of Colorado Roadless Areas in the North Fork Coal Mining Area. Currently, the North Fork Coal Mining Area is being managed the same as other non-upper tier Colorado Roadless Areas. Valid existing coal leases would operate according the terms of their leases.

Cooperating Agencies

The Colorado Department of Natural Resources and the BLM will participate as cooperating agencies in the preparation of the SEIS.

Responsible Official

The Responsible Official for the rulemaking and SEIS is the Secretary of Agriculture or his designee.

Decision To Be Made

The Responsible Official will determine whether to reinstate the North Fork Coal Mining Area exception, or continue to manage the area without the exception. In addition, the Forest Service will determine if corrections to the North Fork Coal Mining Area boundary should be made to adjust for clerical errors.

Scoping Process

The Forest Service is seeking public comments for 45 days from the publication date of this notice. Comments should be limited to issues related to the proposed action, which is limited only to reinstating the North Fork Coal Mining Area exception of the Colorado Roadless Rule. The Forest Service is not seeking comments on the other portions of the Colorado Roadless Rule, roadless area boundary modifications, or other roadless areas in Colorado.

Due to the extensive public participation process that occurred with the development of the Colorado Roadless Rule, no public meetings are planned for this 45 day scoping effort. However, public meetings may be held in Denver and Paonia, Colorado after the release of the Supplemental Draft Environmental Impact Statement (SDEIS) and proposed rule.

Estimated Timeline

The SDEIS and proposed rule is estimated to be released in early fall 2015. The Supplemental Final EIS is estimated spring 2016.

Brian Ferebee,
Deputy Regional Forester, Rocky Mountain Region.

[FR Doc. 2015-07886 Filed 4-6-15; 8:45 am]

BILLING CODE CODE 3410-11-P